DEPARTMENT OF ENERGY

[11-101-NG, 12-36-LNG, 12-44-NG, et al.]

Notice of Orders Granting Applications and an Order Vacating Authority To Import and Export Natural Gas and Liquefied Natural Gas During June 2012

AGENCY: Office of Fossil Energy, Department of Energy (DOE).

ACTION: Notice of orders.

| FE Docket Nos.
NATIONAL FUEL MARKETING COMPANY, LLC | 11-101-NG
CHENIERE MARKETING, LLC | 12-36-LNG
PAA NATURAL GAS CANADA ULC | 12-44-NG
GULF LNG LIQUEFACTION COMPANY, LLC | 12-47-LNG
SB POWER SOLUTIONS INC | 12-50-LNG
SOUTHERN LNG COMPANY, L.L.C | 12-54-LNG
TOURMALINE OIL MARKETING CORP | 12-45-NG
MORGAN STANLEY CAPITAL GROUP INC | 12-46-NG
EMPIRE NATURAL GAS CORPORATION | 12-49-NG
BP CANADA ENERGY MARKETING CORP | 12-51-NG
UNION GAS LIMITED | 12-52-NG
SUMMITT ENERGY LP | 12-53-NG
CHEVRON U.S.A. INC | 12-55-LNG
BP ENERGY COMPANY | 12-56-LNG
SOUTHWEST ENERGY, L.P | 12-57-NG
MARATHON OIL COMPANY | 12-58-NG
CENTRAL VALLE HERMOSO, S.A. DE C.V | 12-59-NG
ST. LAWRENCE GAS COMPANY, INC | 12-60-NG
IRVING OIL TERMINALS, INC | 12-62-NG
S.D. SUNNYLAND ENTERPRISES, INC | 12-63-LNG
NEXEN ENERGY MARKETING U.S.A. INC | 12-65-NG
SEMPRA LNG MARKETING, LLC | 12-66-LNG
ETC MARKETING, LTD | 12-67-NG
CONCORD ENERGY LLC | 12-68-NG
NEW YORK STATE ELECTRIC & GAS COMPANY, LLC | 12-69-NG
MONETA ENERGY SERVICES, LTD | 12-70-NG

SUMMARY: The Office of Fossil Energy (FE) of the Department of Energy gives notice that during June 2012, it issued Orders granting applications and an Order vacating authority to import and export natural gas and liquefied natural gas (LNG). These Orders are summarized in the attached appendix and may be found on the FE Web site at http://www.fossil.energy.gov/programs/gasregulation/authorizations/Orders-2012.html. They are also available for inspection and copying in the Office of Fossil Energy, Office of Natural Gas Regulatory Activities, Docket Room 3E-033, Forrestal Building, 1000 Independence Avenue SW., Washington, DC 20585, (202) 586-9478. The Docket Room is open between the hours of 8:00 a.m. and 4:30 p.m., Monday through Friday, except Federal holidays.

Issued in Washington, DC, on August 13, 2012.
John A. Anderson,
Manager, Natural Gas Regulatory Activities, Office of Oil and Gas Global Security and Supply, Office of Fossil Energy.

Appendix

DOE/FE Orders Granting Import/Export Authorizations
Order No. | Date issued | FE Docket No. | Authorization holder | Description of action
3101 | 06/05/12 | 12-44-NG | PAA Natural Gas Canada ULC | Order granting blanket authority to import natural gas from Canada and vacating prior authority, Order 3002.
3102 | 06/07/12 | 12-36-LNG | Cheniere Marketing, LLC | Order granting blanket authority to export previously imported LNG by vessel.
3103 | 06/15/12 | 12-69-NG | New York State Electric & Gas Corporation | Order granting blanket authority to import/export natural gas from/to Canada.
3104 | 06/15/12 | 12-47-LNG | Gulf LNG Liquefaction Company, LLC | Order granting long-term multi-contract authority to export LNG by vessel from the Gulf LNG Energy, LLC Terminal to free trade agreement nations.
3105 | 06/15/12 | 12-50-LNG | SB Power Solutions Inc | Order granting long-term multi-contract authority to export LNG to free trade agreement nations in Central America, South America and the Caribbean by vessel in ISO containers.
3106 | 06/15/12 | 12-54-LNG | Southern LNG Company, L.L.C | Order granting long-term multi-contract authority to export LNG by vessel from the Elba Island Terminal to free trade agreement nations.
3107 | 06/22/12 | 12-45-NG | Tourmaline Oil Marketing Corp | Order granting blanket authority import natural gas from Canada.
3108 | 06/22/12 | 12-46-NG | Morgan Stanley Capital Group Inc | Order granting blanket authority to import/export natural gas from/to Canada/Mexico.
3109 | 06/22/12 | 12-49-NG | Empire Natural Gas Corporation | Order granting blanket authority to import natural gas from Canada.
3110 | 06/22/12 | 12-51-NG | BP Canada Energy Marketing Corp | Order granting blanket authority to import/export natural gas from/to Canada.
3111 | 06/22/12 | 12-52-NG | Union Gas Limited | Order granting blanket authority to import/export natural gas from/to Canada.
3112 | 06/22/12 | 12-53-NG | Summitt Energy LP | Order granting blanket authority to import/export natural gas from/to Canada.
3113 | 06/22/12 | 12-55-LNG | Chevron U.S.A. Inc | Order granting blanket authority to import LNG from various international sources by vessel.
3114 | 06/22/12 | 12-56-LNG | BP Energy Company | Order granting blanket authority to import LNG from various international sources by vessel.
3115 | 06/22/12 | 12-57-NG | Southwest Energy, L.P | Order granting blanket authority to import/export natural gas from/to Canada/Mexico.
3116 | 06/22/12 | 12-58-NG | Marathon Oil Company | Order granting blanket authority to import/export natural gas from/to Canada/Mexico.
3117 | 06/22/12 | 12-59-NG | Central Valle Hermoso, S.A. de C.V | Order granting blanket authority to import/export natural gas from/to Mexico.
3118 | 06/22/12 | 12-60-NG | St. Lawrence Gas Company, Inc | Order granting blanket authority to import natural gas from Canada.
3119 | 06/22/12 | 12-62-NG | Irving Oil Terminals, Inc | Order granting blanket authority to export natural gas to Canada.
3120 | 06/22/12 | 12-63-LNG | S.D. Sunnyland Enterprises, Inc | Order granting blanket authority to import LNG from various international sources by vessel.
3121 | 06/22/12 | 12-65-NG | Nexen Energy Marketing U.S.A. Inc | Order granting blanket authority to import/export natural gas from/to Canada/Mexico.
3122 | 06/22/12 | 12-66-LNG | Sempra LNG Marketing, LLC | Order granting blanket authority to import LNG from various international sources by vessel.
3123 | 06/22/12 | 12-67-NG | ETC Marketing, Ltd | Order granting blanket authority to export natural gas to Mexico.
3124 | 06/22/12 | 12-68-NG | Concord Energy LLC | Order granting blanket authority to import/export natural gas from/to Canada.
3125 | 06/22/12 | 12-70-NG | Moneta Energy Services Ltd | Order granting blanket authority to import/export natural gas from/to Canada.
3001-A | 06/22/12 | 11-101-NG | National Fuel Marketing Company, LLC | Order vacating blanket authority to import/export natural gas from/to Canada.

[FR Doc. 2012-20635 Filed 8-21-12; 8:45 am]

BILLING CODE 6450-01-P